DEPARTMENT OF ENERGY

Federal Energy Regulatory Commission

Combined Notice of Filings #1

June 30, 2010.

Take notice that the Commission received the following electric rate filings:

Docket Numbers: ER95-72-023; ER10-790-002; ER09-665-002; ER09-1270-003; ER09-1269-003; ER08-275-002; ER01-3118-005; ER01-3117-005; ER00-2392-004.

Applicants: Power Exchange Corporation; El Cajon Energy, LLC; Wellhead Power eXchange, LLC; Chula Vista Energy Center, LLC; Escondido Energy Center, LLC; Santa Maria Cogen Inc.; Wellhead Power Panoche, LLC; Wellhead Power Gates, LLC; Fresno Cogeneration Partners, LP.

Description: Power Exchange Corp et al. (Sellers) submits updated market power analysis in compliance with the requirements of Section 205 of the Federal Power Act, etc.

Filed Date: 06/29/2010.

Accession Number: 20100630-0203.

Comment Date: 5 p.m. Eastern Time on Monday, August 30, 2010.

Docket Numbers: ER99-845-020; ER10-622-002.

Applicants: Puget Sound Energy, Inc., Macquarie Energy LLC.

Description: Triennial Updated Market Analysis of Puget Sound Energy, Inc. and Macquarie Energy LLC.

Filed Date: 06/29/2010.

Accession Number: 20100629-5191.

Comment Date: 5 p.m. Eastern Time on Monday, August 30, 2010.

Docket Numbers: ER99-2284-015; ER98-2185-020; ER09-1278-004; ER99-1773-015; ER99-1761-011; ER09-38-005; ER98-2184-020; ER01-1315-011; ER00-33-017; ER01-2401-017; ER98-2186-021; ER05-442-009; ER00-1026-022; ER01-751-017.

Applicants: Mountain View Power Partners, LLC, Indianapolis Power & Light Company, AES Eastern Energy, LP, AES Energy Storage, LLC, AES Red Oak, LLC, AES Redondo Beach, LLC, Condon Wind Power, LLC, AES Placerita, Inc., AES Huntington Beach, LLC, AES Ironwood, LLC, AES Armenia Mountain Wind, LLC, AES Alamitos, LLC, AES 2, LLC, AES Creative Resources, LP, AES ES WESTOVER, LLC.

Description: Triennial Market Power Analysis for Southwest Region of AES 2, LLC, et al.

Filed Date: 06/29/2010.

Accession Number: 20100629-5195.

Comment Date: 5 p.m. Eastern Time on Monday, August 30, 2010.

Docket Numbers: ER00-3614-014; ER00-443-002; ER08-337-007.

Applicants: BP Energy Company, BP West Coast Products LLC, Watson Cogeneration Company.

Description: Updated Market Power Analysis for Southwest Region of BP Energy Co., Watson Cogeneration Company, and BP West Coast Products, LLC.

Filed Date: 06/30/2010.

Accession Number: 20100630-5039.

Comment Date: 5 p.m. Eastern Time on Monday, August 30, 2010.

Docket Numbers: ER04-947-010; ER08-1297-008; ER09-1656-004; ER02-2559-014; ER01-1071-019; ER02-669-001; ER02-2018-012; ER10-2-003; ER01-2074-011; ER08-1293-008; ER08-1294-008; ER10-297-002; ER10-825-001; ER05-222-008; ER00-2391-014; ER10-149-004; ER98-2494-015; ER06-9-014; ER09-902-004; ER00-3068-012; ER05-487-009; ER04-127-009; ER03-34-003; ER10-402-004; ER02-1903-015; ER06-1261-013; ER03-179-010; ER03-1104-015; ER03-1105-015; ER03-1332-008; ER09-138-006; ER08-197-012; ER03-1333-009; ER03-1103-008; ER10-256-002; ER01-838-011; ER98-3563-016; ER98-3564-018; ER03-1025-007; ER02-2120-010; ER10-296-002; ER05-714-007; ER01-1972-012; ER10-1-003; ER03-155-011; ER03-623-011; ER09-1462-003; ER08-250-009; ER07-1157-007; ER04-290-009; ER02-256-005; ER09-988-007; ER09-832-009; ER09-989-007; ER09-990-005; ER05-236-010; ER04-187-011; ER09-1297-003; ER07-174-013; ER08-1296-008; ER02-2166-013; ER09-901-004; ER05-661-005; ER08-1300-008; ER03-1375-010; ER09-1760-003; ER09-900-004; ER10-3-003; ER98-3511-016; ER99-2917-015; ER07-875-006.

Applicants: Acme POSDEF Partners, LP; Ashtabula Wind, LLC; Ashtabula Wind II, LLC; Backbone Mountain Windpower, LLC; Badger Windpower, LLC; Bayswater Peaking Facility, LLC; Blythe Energy, LLC; Butler Ridge Wind Energy Center, LLC; Calhoun Power Company I, LLC; Crystal Lake Wind, LLC; Crystal Lake Wind II, LLC; Crystal Lake Wind III, LLC; Day County Wind, LLC; Diablo Winds, LLC; Doswell Limited Partnership; Elk City Wind, LLC; ESI Vansycle Partners, LP; FPL Energy Cabazon Wind, LLC; FPL Energy Cabazon Wind, LLC; FPL Energy Cape, LLC; FPL Energy Cowboy Wind, LLC; FPL Energy Green Power Wind, LLC; FPL Energy Hancock County Wind, LLC; FPL Energy Illinois Wind, LLC; FPL Energy Marcus Hook, LP; FPL Energy Mower County, LLC; FPL Energy New Mexico Wind, LLC; FPL Energy North Dakota Wind, LLC; FPL Energy North Dakota Wind II, LLC; FPL Energy Oklahoma Wind, LLC; FPL Energy Oliver Wind I, LLC; FPL Energy Oliver Wind II, LLC; FPL Energy Sooner Wind, LLC; FPL Energy South Dakota Wind, LLC; FPL Energy Stateline II, Inc.; FPL Energy Vansycle, LLC; FPL Energy Wyman, LLC; FPL Energy Wyman IV, LLC; FPL Energy Wyoming, LLC; FPLE Rhode Island State Energy, LP; Garden Wind, LLC; Gexa Energy LLC; Gray County Wind Energy, LLC; Hawkeye Power Partners, LLC; High Majestic Wind Energy Center, LLC; High Winds, LLC; Jamaica Bay Peaking Facility, LLC; Lake Benton Power Partners II, LLC; Langdon Wind, LLC; Logan Wind Energy LLC; Meyersdale Windpower, LLC; Mill Run Windpower, LLC; NextEra Energy Duane Arnold, LLC; NextEra Energy Power Marketing, LLC; NextEra Energy Point Beach, LLC; NextEra Energy SeaBrook, LLC; Northeast Energy Associates, LP; North Jersey Energy Associates, LP; Northern Colorado Wind Energy, LLC; Osceola Windpower, LLC; Osceola Windpower II, LLC; Pennsylvania Windfarms, Inc.; Sky River LLC; Somerset Windpower, LLC; Story Wind, LLC; WayMart Wind Farm, LP; Wilton Wind II, LLC; Victory Garden Phase IV, LLC; Wessington Wind Energy Center, LLC; FPL Energy Maine Hydro, LLC; FPL Energy MH50 LP; Peetz Table wind Energy, LLC.

Description: Acme POSDEF Partners, LP (NextEra Companies) et al. submits Notice of Non-Material Change in Status and Market-Based Rate Tariff Changes in Compliance with Order Nos 697 and 697A.

Filed Date: 06/23/2010.

Accession Number: 20100625-0200.

Comment Date: 5 p.m. Eastern Time on Wednesday, July 14, 2010.

Docket Numbers: ER07-232-004; ER07-374-003; ER05-1316-003.

Applicants: Aragonne Wind LLC; Buena Vista Energy, LLC; Kumeyaay Wind LLC.

Description: Aragonne Wind LLC et al. submits its application requesting that the Commission find that they qualify as Category 1 Sellers in the Northwest, Southeast, Central, Southwest Power Pool, Northwest & Southwest Regions.

Filed Date: 06/29/2010.

Accession Number: 20100630-0202.

Comment Date: 5 p.m. Eastern Time on Tuesday, July 20, 2010.

Docket Numbers: ER10-1391-001.

Applicants: San Diego Gas & Electric Company.

Description: San Diego Gas & Electric Company submits tariff filing per 35: San Diego Gas & Electric Company Wholesale Distribution Access Tariff Volume 6 to be effective 6/28/2010.

Filed Date: 06/29/2010.

Accession Number: 20100629-5179.

Comment Date: 5 p.m. Eastern Time on Tuesday, July 20, 2010.

Docket Numbers: ER10-1633-000.

Applicants: Deseret Generation & Transmission Co-operative, Inc.

Description: Deseret Generation & Transmission Co-operative, Inc. submits tariff filing per 35.12: Baseline Tariff Filing to be effective 6/29/2010.

Filed Date: 06/29/2010.

Accession Number: 20100629-5178.

Comment Date: 5 p.m. Eastern Time on Tuesday, July 20, 2010.

Docket Numbers: ER10-1635-000.

Applicants: Virginia Electric and Power Company.

Description: Request of Virginia Electric and Power Company and its Market-Regulated Power Sales Affiliates For Waivers Of Certain Affiliate Restrictions Requirements.

Filed Date: 06/29/2010.

Accession Number: 20100629-5197.

Comment Date: 5 p.m. Eastern Time on Tuesday, July 20, 2010.

Docket Numbers: ER10-1564-001.

Applicants: Cabrillo Power I LLC.

Description: Cabrillo Power I LLC submits tariff filing per 35: Cabrillo I—Amendment to Market-Based Rate Tariff to be effective 6/28/2010.

Filed Date: 06/30/2010.

Accession Number: 20100630-5035.

Comment Date: 5 p.m. Eastern Time on Wednesday, July 21, 2010.

Docket Numbers: ER10-1565-001.

Applicants: Cabrillo Power II LLC.

Description: Cabrillo Power II LLC submits tariff filing per 35: Cabrillo Power II—Amendment to Market-Based Rate Tariff to be effective 6/28/2010.

Filed Date: 06/30/2010.

Accession Number: 20100630-5052.

Comment Date: 5 p.m. Eastern Time on Wednesday, July 21, 2010.

Docket Numbers: ER10-1566-001.

Applicants: El Segundo Power LLC.

Description: El Segundo Power LLC submits tariff filing per 35: El Segundo Power—Amendment to Market-Based Rate Tariff to be effective 6/28/2010.

Filed Date: 06/30/2010.

Accession Number: 20100630-5053.

Comment Date: 5 p.m. Eastern Time on Wednesday, July 21, 2010.

Docket Numbers: ER10-1583-001.

Applicants: El Segundo Power II LLC.

Description: El Segundo Power II LLC submits tariff filing per 35: El Segundo Power II—Amendment to Market-Based Rate Tariff to be effective 6/28/2010.

Filed Date: 06/30/2010.

Accession Number: 20100630-5070.

Comment Date: 5 p.m. Eastern Time on Wednesday, July 21, 2010.

Docket Numbers: ER10-1636-000.

Applicants: Xcel Energy Services Inc.

Description: Northern States Power Company et al. submits a Notice of Cancellation of the Interconnection and Interchange Agreement with Upper Peninsula Power Company.

Filed Date: 06/29/2010.

Accession Number: 20100630-0208.

Comment Date: 5 p.m. Eastern Time on Tuesday, July 20, 2010.

Docket Numbers: ER10-1637-000.

Applicants: Synergics Roth Rock Wind Energy, LLC.

Description: Synergics Wind Energy, LLC submits an application for authorization to sell energy and capacity in wholesale transactions at negotiated, market-based rates.

Filed Date: 06/29/2010.

Accession Number: 20100630-0209.

Comment Date: 5 p.m. Eastern Time on Tuesday, July 20, 2010.

Docket Numbers: ER10-1638-000.

Applicants: Public Service Electric and Gas Company.

Description: Public Service Electric and Gas Company submits tariff filing per 35.12: Baseline Filing of Market-Based rate Tariff Under Order No. 714 to be effective 6/30/2010.

Filed Date: 06/30/2010.

Accession Number: 20100630-5051.

Comment Date: 5 p.m. Eastern Time on Wednesday, July 21, 2010.

Docket Numbers: ER10-1639-000.

Applicants: CPV Milford, LLC.

Description: CPV Milford, LLC submits tariff filing per 35.37: Category 1 Demonstration Filing to be effective 8/30/2010.

Filed Date: 06/30/2010.

Accession Number: 20100630-5068.

Comment Date: 5 p.m. Eastern Time on Wednesday, July 21, 2010.

Docket Numbers: ER10-1640-000.

Applicants: CPV Liberty, LLC.

Description: CPV Liberty, LLC submits tariff filing per 35.37: Category 1 Demonstration Filing to be effective 8/30/2010.

Filed Date: 06/30/2010.

Accession Number: 20100630-5069.

Comment Date: 5 p.m. Eastern Time on Wednesday, July 21, 2010.

Docket Numbers: ER10-1641-000.

Applicants: Dogwood Energy LLC.

Description: Dogwood Energy LLC submits tariff filing per 35.37: Category 1 Demonstration Filing to be effective 8/30/2010.

Filed Date: 06/30/2010.

Accession Number: 20100630-5071.

Comment Date: 5 p.m. Eastern Time on Wednesday, July 21, 2010.

Docket Numbers: ER10-1642-000.

Applicants: EWO Marketing, Inc.

Description: EWO Marketing, Inc. submits tariff filing per 35.12: Baseline Filing of EWOM to be effective 6/30/2010.

Filed Date: 06/30/2010.

Accession Number: 20100630-5077.

Comment Date: 5 p.m. Eastern Time on Wednesday, July 21, 2010.

Docket Numbers: ER10-1643-000.

Applicants: Cottonwood Energy Company, LP.

Description: Cottonwood Energy Company, LP submits tariff filing per 35.37: Category 1 Demonstration Filing to be effective 8/30/2010.

Filed Date: 06/30/2010.

Accession Number: 20100630-5093.

Comment Date: 5 p.m. Eastern Time on Wednesday, July 21, 2010.

Docket Numbers: ER10-1644-000.

Applicants: Magnolia Energy LP.

Description: Magnolia Energy LP submits tariff filing per 35.37: Category 1 Demonstration Filing to be effective 8/30/2010.

Filed Date: 06/30/2010.

Accession Number: 20100630-5109.

Comment Date: 5 p.m. Eastern Time on Wednesday, July 21, 2010.

Docket Numbers: ER10-1652-000.

Applicants: California Independent System Operator Corporation.

Description: California Independent System Operator Corporation submits tariff filing per 35: 2010-06-30 CAISO Corona MSA Termination to be effective 7/1/2010.

Filed Date: 06/30/2010.

Accession Number: 20100630-5145.

Comment Date: 5 p.m. Eastern Time on Wednesday, July 21, 2010.

Docket Numbers: ER10-1656-000.

Applicants: California Independent System Operator Corporation.

Description: California Independent System Operator Corporation submits tariff filing per 35: 2010-06-30 ISO Security Deposit Tariff Waiver to be effective 7/1/2010.

Filed Date: 06/30/2010.

Accession Number: 20100630-5149.

Comment Date: 5 p.m. Eastern Time on Wednesday, July 21, 2010.

Docket Numbers: ER10-1657-000.

Applicants: New York Independent System Operator.

Description: New York Independent System Operator submits tariff filing per 35.12: Baseline Tariff Filing of the New York Independent System Operator, Inc., to be effective 6/30/2010.

Filed Date: 06/30/2010.

Accession Number: 20100630-5153.

Comment Date: 5 p.m. Eastern Time on Wednesday, July 21, 2010.

Take notice that the Commission received the following electric securities filings:

Docket Numbers: ES10-51-000.

Applicants: AEP Appalachian Transmission Company, Inc.

Description: Application Under Section 204 of the Federal Power Act of AEP Appalachian Transmission Company, Inc., et al., for Authorization to Issue Securities.

Filed Date: 06/30/2010.

Accession Number: 20100630-5083.

Comment Date: 5 p.m. Eastern Time on Wednesday, July 21, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-16636 Filed 7-7-10; 8:45 am]

BILLING CODE 6717-01-P